ENVIRONMENTAL PROTECTION AGENCY

[EPA-HQ-OPPT-2018-0314; FRL-9978-42]

Letter Peer Reviews for Exposure and Use Assessment and Human Health and Environmental Hazard Summary for Five PBT Chemicals; Notice of Public Preparatory Meeting and Public Comment Period

AGENCY: Environmental Protection Agency (EPA).

ACTION: Notice.

SUMMARY: There will be a half-day preparatory meeting for experts selected to serve as letter peer reviewers for EPA's Exposure and Use Assessment and Human Health and Environmental Hazard Summary for Five PBT chemicals. The preparatory meeting will be held via teleconference and webcast only. Registration is required to attend.

DATES: The preparatory meeting will be held on June 25, 2018, from approximately 1:00 p.m. (EDT) to 5:00 p.m.

Comments. Requests to present oral comments during the preparatory meeting should be submitted on or before June 21, 2018. Written comments to be considered by the peer reviewers may be submitted until July 23, 2018. Though the peer reviewers may not be able to fully consider written comments submitted after July 23, 2018, EPA will consider all comments submitted on or before August 17, 2018. For additional instructions, contact the Peer Review Leader listed under FOR FURTHER INFORMATION CONTACT and see SUPPLEMENTARY INFORMATION.

Webcast. This preparatory meeting will be conducted via teleconference and webcast only. Registration is required.

Special accommodations. For information on access or services for individuals with disabilities, and to request accommodation of a disability, please contact the Peer Review Leader listed under FOR FURTHER INFORMATION CONTACT at least 10 days prior to the preparatory meeting to give EPA as much time as possible to process your request.

ADDRESSES:

Meeting: The preparatory meeting will be held via teleconference and webcast only. For additional information, please contact the Peer Review Leader listed under FOR FURTHER INFORMATION CONTACT.

Comments. Submit your comments, identified by docket identification (ID) number EPA-HQ-OPPT-2018-0314, by one of the following methods:

• Federal eRulemaking Portal: http://www.regulations.gov. Follow the online instructions for submitting comments. Do not submit electronically any information you consider to be Confidential Business Information (CBI) or other information whose disclosure is restricted by statute.

• Mail: OPPT Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Todd Peterson, Ph.D., Peer Review Leader, Office of Science Coordination and Policy (7201M), Environmental Protection Agency, 1200 Pennsylvania Ave. NW, Washington, DC 20460-0001; telephone number: (202) 564-6428; email address: peterson.todd@epa.gov.

SUPPLEMENTARY INFORMATION:

I. General Information

A. Does this action apply to me?

This action is directed to the public in general. This action may, however, be of interest to those involved in the manufacture, processing, distribution, disposal, and/or the assessment of risks involving chemical substances and mixtures. Since other entities may also be interested, the Agency has not attempted to describe all the specific entities that may be affected by this action.

B. What should I consider as I prepare my comments for EPA?

1. Submitting CBI. Do not submit CBI information to EPA through regulations.gov or email. If your comments contain any information that you consider to be CBI or otherwise protected, please contact the Peer Review Leader listed under FOR FURTHER INFORMATION CONTACT to obtain special instructions before submitting your comments.

2. Tips for preparing your comments. When preparing and submitting your comments, see the commenting tips at http://www.epa.gov/dockets/comments.html.

C. How may I participate in this meeting?

You may participate in this preparatory meeting by following the instructions in this unit. To ensure proper receipt by EPA, it is imperative that you identify docket ID number EPA-HQ-OPPT-2018-0314 in the subject line on the first page of your request.

1. Written comments. The Agency encourages written comments be submitted, using the instructions in ADDRESSES and Unit I.B., on or before July 23, 2018, to provide the letter peer reviewers the time necessary to consider and review the written comments. Though the peer reviewers may not be able to fully consider written comments submitted after July 23, 2018, EPA will consider all comments submitted on or before August 17, 2018.

2. Oral comments. The Agency encourages each individual or group wishing to present brief oral comments to the letter peer reviewers during the preparatory meeting to submit their request to the peer review leader listed under FOR FURTHER INFORMATION CONTACT on or before June 21, 2018, in order to be included on the preparatory meeting agenda. The request should identify the name of the individual making the presentation, the organization (if any) the individual will represent, and any requirements for audiovisual equipment. Oral comments are limited to approximately 5 minutes due to the time constraints of the preparatory meeting.

II. Background

A. Letter Peer Review

Section 6(h) of the Toxics Substances Control Act (TSCA) directs EPA to issue regulations under 6(a) for certain Persistent Bioaccumulative and Toxic (PBT) chemical substances that were identified in EPA's TSCA Work Plan for Chemical Assessments: 2014 update. The chemicals that were ranked high or moderate for either persistence and bioaccumulation, are present on the TSCA 2014 workplan chemical list that are not metals, that do not have problem formulation completed, do not have a review under section 5, and do not have a consent agreement under section 4 are the following five chemicals: Decabromodiphenyl ethers (DECA); Hexachlorobutadiene (HCBD); Pentachlorothiophenol (PCTP); Phenol, isopropylated, phosphate (3:1) (PIP3/ITPP); and 2,4,6-Tris(tert-butyl) phenol (2, 4, 6 TRIS).

No risk evaluation is required for these PBT chemicals. EPA has drafted an Exposure and Use Assessment and a Human Health and Environmental Hazard Summary, in response to the TSCA section 6(h) requirements to summarize conclusions of toxicity and whether there is likely exposure to these PBT chemicals. These documents contain the following components:

• Chemistry, physical-chemical properties and expected transport and partitioning.

• Characterization of manufacture (including import), processing, uses and potential sources of exposure.

• Summary of available monitoring data, concentrations and doses.

• Characterization of trends in releases/exposures over time.

• Summary of environmental hazard (written and tabular summaries).

• Summary of human health hazard (written and tabular summaries).

• Strategy for identifying environmental hazard summary information.

• Strategy for identifying human health summary information.

• Supplemental Files that identify how environmental information was searched, screened, and evaluated.

B. Public Preparatory Meeting

The Agency has organized letter peer reviews for the Exposure and Use Assessment and the Human Health and Environmental Hazard Summary. The June 25, 2018 preparatory meeting will be held by teleconference and webcast only. During the preparatory meeting, the individual letter peer reviewers will have the opportunity to comment on and ask questions regarding the scope and clarity of the draft charge questions. Subsequent to this preparatory meeting, final charge questions will be provided for use as the letter peer reviewers complete their individual reviews.

C. Letter Peer Review Documents

EPA's background papers, related supporting materials, and charge/questions for these letter peer reviews will be available in the public docket (EPA-HQ-OPPT-2018-0314) on June 18, 2018. In addition, the Agency may provide additional background documents and public comments as the materials become available. You may obtain electronic copies of these documents, and certain other related documents that might be available in the public docket at http://www.regulations.gov and on the TSCA Peer Review website at https://www.epa.gov/tsca-peer-review.

Authority: 15 U.S.C. 2625 et. seq.; 5 U.S.C. Appendix 2 et. seq.

Dated: May 18, 2018.
Stanley Barone, Jr.,
Acting Director, Office of Science Coordination and Policy.

[FR Doc. 2018-11311 Filed 5-24-18; 8:45 am]

BILLING CODE 6560-50-P